COMMISSION ON CIVIL RIGHTS

Notice of Public Meeting of the Maryland Advisory Committee to the U.S. Commission on Civil Rights

AGENCY: Commission on Civil Rights.

ACTION: Announcement of Meeting.

SUMMARY: Notice is hereby given, pursuant to the provisions of the rules and regulations of the U.S. Commission on Civil Rights (Commission) and the Federal Advisory Committee Act, that the Maryland Advisory Committee (Committee) to the Commission will hold a public meeting via Zoom. The purpose is for the committee to discuss possible topics of study.

DATES: Wednesday, October 22, 2025, at 3:00 p.m. ET.

ADDRESSES: Registration Link (Audio/Visual): The meeting will be held via Zoom. https://www.zoomgov.com/webinar/register/WN_pi8yUGRvS_W0N0-NYIONrg. Join by Phone (Audio Only): 1-833-435-1820 USA Toll Free; Webinar ID: 160 730 8088 #

Agenda: https://usccr.box.com/s/530rlth9epgpr00xqspsh86i4schbuvj (note: a final meeting agenda will be available prior to the meeting date).

FOR FURTHER INFORMATION CONTACT: Brooke Peery, Designated Federal Officer, at bpeery@usccr.gov or 1-202-701-1376.

SUPPLEMENTARY INFORMATION: This virtual committee meeting is available to the public through the registration link above. Any interested member of the public may join at the link to listen to this meeting. An open comment period will be provided to allow members of the public to make a statement as time allows. Pursuant to the Federal Advisory Committee Act, public minutes of the meeting will include a list of persons who are present at the meeting. If joining via phone, callers can expect to incur regular charges for calls they initiate over wireless lines, according to their wireless plan. The Commission will not refund any incurred charges. Callers will incur no charge for calls they initiate over land-line connections to the toll-free telephone number. Closed captioning is available by selecting “CC” in the Zoom meeting platform. To request additional accommodations, please email ebohor@usccr.gov at least 10 business days prior to the meeting.

Members of the public are entitled to submit written comments; the comments must be received in the regional office within 30 days following the scheduled meeting. Written comments may be emailed to Evelyn Bohor at ebohor@usccr.gov. Persons who desire additional information may contact the Regional Programs Coordination Unit at (202) 809-9618.

Records generated from this meeting may be inspected and reproduced at the Regional Programs Coordination Unit Office, as they become available, both before and after the meeting. Records of the meetings will be available via the file sharing website: https://tinyurl.com/mnshz8n9 as well as at: www.facadatabase.gov under the Commission on Civil Rights, selecting the Advisory Committee of interest. Persons interested in the work of this Committee are directed to the Commission's website, http://www.usccr.gov, or may contact the Regional Programs Coordination Unit at ebohor@usccr.gov.

Dated: September 29, 2025.
David Mussatt,
Supervisory Chief, Regional Programs Unit.

[FR Doc. 2025-19189 Filed 9-30-25; 8:45 am]

BILLING CODE 6335-01-P